DEPARTMENT OF JUSTICE

[OMB 1140-0107]

Agency Information Collection Activities; Proposed eCollection eComments Requested; Revision of a Previously Approved Collection; NFA Responsible Person Questionnaire, ATF Form 5320.23

AGENCY: Bureau of Alcohol, Tobacco, Firearms, and Explosives, Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments for 30 days, until midnight on December 22, 2025.

ADDRESSES: Submit written comments and recommendations for this information collection to the following website: www.reginfo.gov/public/do/PRAMain. Find this particular information collection by selecting “Currently under 30-day Review—Open for Public Comments” or by using the search function and entering either the title of the information collection or the OMB control number: 1140-0107.

FOR FURTHER INFORMATION CONTACT: If you have questions, or need a copy of the proposed information collection instrument with instructions or additional information, please contact: Meghan Tisserand, Division Staff, National Firearms Act Division, either by mail at National Firearms Act Division; Division Staff Office; 244 Needy Road; Martinsburg, WV 25405, by email at meghan.tisserand@atf.gov, or by telephone at 304-616-3219.

SUPPLEMENTARY INFORMATION: The proposed information collection was previously published in the Federal Register, 90 FR 39425, on Friday, August 15, 2025, allowing a 60-day comment period. We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

You may view this information collection request at www.reginfo.gov. Follow the instructions to view Department of Justice information collections currently under review by OMB and look for 1140-0107.

DOJ seeks PRA authorization for this information collection for three years. OMB authorization for an ICR cannot be for more than three years without renewal. DOJ notes that information collection requirements submitted to OMB for existing ICRs receive a month-to-month extension while they undergo review.

Overview of This Information Collection

1. Type of information collection: Revision of a previously approved collection.

2. Title of the form/collection: NFA Responsible Person Questionnaire.

3. The agency form number, if any, and the applicable component of the Department sponsoring the collection: Form number: ATF Form 5320.23.

Component: Bureau of Alcohol, Tobacco, Firearms, and Explosives; U.S. Department of Justice.

4. Affected public who will be asked or required to respond, as well as the obligation to respond: Affected Public: State, local and tribal governments, private sector for- or not-for-profit institutions, federal government.

Abstract: When a trust or other legal entity (including corporations, married couples jointly registering a firearm, etc) must submit ATF Form 5320.1 (“Form 1”), Application to Make and Register NFA Firearm, as the maker, or is identified as the transferee on ATF Form 5320.4 (“Form 4”), Application to Transfer and Register NFA Firearm (Tax-Paid), or ATF Form 5320.5 (“Form 5”), Application to Transfer and Register NFA Firearm (Tax-Exempt), they are not able to submit individualy identifying information for purposes of a background check. As a result, ATF Form 5320.23 is required for any responsible person (as defined in 27 CFR 479.11) who is part of such trust or other legal entity. Forms 1, 4, and 5 are required under the National Firearms Act (NFA).

5. Obligation to respond: required to obtain/retain a benefit, comply with law.

6. Total estimated number of respondents: 749,242 respondents.

7. Estimated time per respondent: 12 minutes.

8. Frequency: once annually.

9. Total estimated annual time burden: 149,848 total hours.

10. Total estimated annual other costs burden: 0.

Revisions to This Information Collection

Information Collection (IC) OMB 1140-0107 is being revised to reflect an increase in the number of applicant responsible persons per year, rising from 115,829 applicants during the last renewal to 749,242, an increase of 633,413 responsible persons. However, there has been a decrease in the time burden due to changes in technology allowing electronic forms, reducing the number of respondents who must provide fingerprints and reducing the number of copies, allowing electronic fingerprints on-site, reducing respondents who must provide photographs, and substituting photocopied identification cards instead, all submitted electronically. As a result, there has been a corresponding decrease in the burden hours per respondent, from .5 hours to .2 hours each. These combined changes have resulted in resulting in an increase in total annual burden hours from 57,915 to 149,848 (an increase of 91,933 hours).

In addition, the Department is making the following changes to Form 5320.23 in anticipation of upcoming regulatory changes, and to make the form easier to read, correct minor errors, and adjust for updated technology:

• revising the title to be shorter

• removing the photo box on the form and revising the instructions to reflect anticipated regulatory change to who must submit fingerprints or photographs and to shift from a passport-style photo to a copy of a photo identification card

• combining race/ethnicity items

• allowing additional types of electronic/digital signatures

• adding references to eForms

• adding instructions for married couples jointly making, transferring, and registering a firearm, as an `other legal entity'

• correcting typographical/grammar items

• removing specific firearm information other than the type of firearm

Public Comments

ATF received three public comments on this ICR during the 60-day comment period, one from a licensed dealer in NFA firearms, and two from industry trade organizations, one of which represents retailers in the farm store industry, which includes federally licensed firearms dealers, and the other of which represents the firearms industry and recreational shooting and hunting. ATF appreciates the feedback from these commenters on the proposed changes. It is helpful to receive feedback, positive or negative, from persons impacted by our processes so we can make them more user-friendly and efficient.

Comment Summaries

Topic 1

One commenter approved of ATF's proposed change to remove the Chief Law Enforcement Officer (CLEO) notification requirement and the corresponding extra copy in ATF Forms 5320.4 for that purpose. The commenter then suggested that the next step would be to retire ATF Form 5320.23 (“Form 23”), which is the responsible person (“RP”) questionnaire that accompanies some Forms 4, along with some ATF Forms 5320.1 (“Form 1”) and 5320.5 (“Form 5”). To clarify, Forms 1, 4, and 5 are application forms to make, transfer, and register NFA firearms for individual persons or companies, government organizations, and other legal entities. When an individual completes these forms, they enter the necessary personal identity information so that NICS can complete the required background check. However, when a legal entity completes these forms, it cannot provide the personal identity information for all of that entity's responsible persons on the same form, which is designed for one person's information (and which already has the entity's information in some of those fields). So, ATF uses Form 23 for responsible persons to submit their personal identity information along with the primary form. Each responsible person completes their own Form 23.

The commenter stated that Form 23 duplicates the data that is entered on Forms 1, 4, or 5, raises mismatch risk, and leads to unnecessary RFCs and disapprovals. The commenter also pointed out that, on the eForms version of these forms, the transferee eligibility questions are presented for individual submissions. They stated that moving, and thus capturing, these same questions at the RP module for individual and trust/entity filings would create a single, uniform workflow across individual and trust submissions, thereby reducing duplication and errors. They also added that doing this would make the non-eForm version of Form 23 unnecessary for persons who submit an eForm version of Form 1, 4, or 5. Using ATF's burden information in the notice for this ICR, the commenter estimated that eliminating Form 23 for eForm filings of Forms 1, 4, and 5 would save the public approximately 144,000 hours/year and roughly $3.3 million in respondent time (at $23/hour), while also saving ATF processing time.

ATF response

ATF agrees with the commenter that using an eForm instead of having to complete a paper form would save time and reduce hassles for respondents. Because of the significant programming cost and time necessary to migrate a form to the eForms platform and ensure it is fully integrated with other systems that process and account for the forms, it isn't possible to do all the forms at the same time. So ATF is working through forms in a queue, as budget permits, and expects the Form 23 to be added to eForms soon. In the interim, as part of this ICR renewal, ATF is making the Form 23 into an electronically fillable and digitally signable form. This will save respondents substantial time and inconvenience until the Form 23 is in the eForms system.

We note, however, that the information being requested of each RP—even though it is the same personal identity information and qualification questions that are asked of individual persons—does not duplicate the information that would be included on a Form 1, 4, or 5 in such cases. If there is a need for a Form 23, that means there is a trust, company, or other legal entity completing the Form 1, 4, or 5, and therefore entering entity information into the required fields. Entities, however, can't enter personal identity information, and an RP can't enter their personal information into the same fields with entity information in them. Likewise, if there is more than one RP for the applying entity, each RP can't enter their personal information into the same fields with other RP information in them. So each RP must complete those fields by submitting a separate form (a Form 23), even though it requests the same information for each RP as the Form 1, 4, or 5 requests for individual persons (when individuals apply, they do not also do a Form 23).

Topic 2

All three commenters expressed support for the changes ATF is making to streamline and revise Form 23. One industry trade organization stated that they strongly encourage and support these efforts, and specifically cited eForms and electronic signature, correcting typographical/grammar items, removing specific firearm information other than the type of firearm, and adding instructions for married couples to jointly make, transfer, and register NFA firearms. The other industry trade group stated the proposed changes reflect a clear commitment to modernizing regulatory processes while strengthening both public safety and operational efficiency. They specifically stated they appreciate the form's clearer design and improved instructions, including the streamlined title and simplified formatting, removing the photo box and allowing ID cards in place of passport photos, consolidating race/ethnicity fields, and updating instructions for trusts, corporations, and married couples acting as joint applicants or transferees. They also stated the move to electronic filing, signatures, and fingerprints will significantly cut administrative burdens, streamline submissions, and reduce delays, allowing FFLs more time to focus on business and compliance needs.

ATF response

In response to the first commenter's suggestion that ATF should make all efforts to modernize these NFA forms, and the other two commenters' emphasis on how the current revisions are a strong step in that direction, we think the following information will be helpful. The proposed changes to these forms reflect larger corresponding changes the agency is proposing to its NFA regulations and across other NFA forms, as well. These changes have been developing for some time and are projected to take effect during the next year. In addition to allowing electronic signatures, ATF is also making its NFA forms electronically fillable as the ICRs come up for renewal, and expects to move to solely electronic forms in 2026. In addition, NFA is continuing to build the rest of its forms into its eForms platform, so applicants can complete and submit the forms online.

If you need additional information, contact: Darwin Arceo, Department Clearance Officer, Enterprise Portfolio Management; Justice Management Division; United States Department of Justice; Two Constitution Square; 145 N Street NE, 4W-218, Washington, DC 20530.

Dated: November 17, 2025.
Darwin Arceo,
Department Clearance Officer for PRA, U.S. Department of Justice.

[FR Doc. 2025-20339 Filed 11-19-25; 8:45 am]

BILLING CODE 4410-FY-P